DEPARTMENT OF DEFENSE

Department of the Navy

Meeting of the Planning and Steering Advisory Committee (PSAC)

AGENCY: Department of the Navy, DOD.

ACTION: Notice of closed meeting.

SUMMARY: The purpose of this meeting is to discuss topics relevant to SSBN security.

DATES: The meeting will be held on Wednesday, December 11, 2002, from 9 a.m. to 4 p.m.

ADDRESSES: The meeting will be held at the Center for Naval Analyses, 4825 Mark Center, Alexandria, VA.

FOR FURTHER INFORMATION CONTACT: Lieutenant Commander James Latsko, CNO (N775C2), 2000 Navy Pentagon, NC-1, Washington, DC 20350-2000, (703) 604-7392.

SUPPLEMENTARY INFORMATION: This notice of closed meeting is provided per the Federal Advisory Committee Act (5 U.S.C. App. 2). The entire agenda will consist of classified information that is specifically authorized by Executive Order to be kept secret in the interest of national defense and is properly classified pursuant to such Executive Order. Accordingly, the Secretary of the Navy has determined in writing that all sessions of the meeting shall be closed to the public because they concern matters listed in 552b(c)(1) of title 5, United States Code.

Dated: November 22, 2002.
R.E. Vincent II,
Lieutenant Commander, Judge Advocate General's Corps, U.S. Navy, Federal Register Liaison Officer.

[FR Doc. 02-30383 Filed 11-27-02; 8:45 am]

BILLING CODE 3810-FF-P